DEPARTMENT OF THE INTERIOR

Fish and Wildlife Service

Notice of Meeting of the Lake Champlain Sea Lamprey Control Alternatives Workgroup

AGENCY: Fish and Wildlife Service, Interior.

ACTION: Notice of meeting.

SUMMARY: This notice announces a meeting of the Lake Champlain Sea Lamprey Control Alternatives Workgroup. The purpose of the Workgroup is to provide, in an advisory capacity, recommendations and advice on research and implementation of sea lamprey control techniques alternative to lampricide, if they are found to be technically feasible, cost effective, and environmentally safe. Primary objectives of the meeting will include a review of Federal Advisory Committee Act requirements, discussion of the Workgroup's mission, discussion of workgroup operating procedures, and an overview of recent developments in alternative sea lamprey control technology. The meeting is open to the public.

DATES: The Lake Champlain Sea Lamprey Control Alternatives Workgroup will meet from 10 a.m. to 3 p.m. on Wednesday, June 14, 2006.

ADDRESSES: The meeting will be held at the Lake Champlain Basin Program/Vermont Fish and Wildlife Department facility at the Gordon Center House, 54 West Shore Road, Grand Isle, Vermont. Telephone 802/372-3213.

FOR FURTHER INFORMATION CONTACT: Dave Tilton of the U.S. Fish and Wildlife Service, Lake Champlain Fish and Wildlife Resources Office, 11 Lincoln Street, Essex Junction, Vermont 05452, (802) 872-0629. Dave Tilton is the Workgroup's Designated Federal Official.

SUPPLEMENTARY INFORMATION: This notice is published pursuant to section 10(a)(2) of the Federal Advisory Committee Act (5 U.S.C. App.). Specific responsibilities of the Workgroup are to provide advice regarding the implementation of sea lamprey control methods alternative to lampricides, recommend priorities for research to be conducted by cooperating organizations and demonstration projects to be developed and funded by State and Federal agencies, and assist Federal and State agencies with the coordination of alternative sea lamprey control research to advance the state of the science in Lake Champlain and the Great Lakes.

Dated: May 17, 2006.
David A. Tilton,
Designated Federal Official, Fish and Wildlife Service.

[FR Doc. E6-7825 Filed 5-22-06; 8:45 am]

BILLING CODE 4310-55-P